DEPARTMENT OF THE INTERIOR

Fish and Wildlife Service

Notice of Availability of a Final Environmental Impact Statement/ Environmental Impact Report on the South Bay Salt Ponds Initial Stewardship Plan, San Francisco Bay, CA

AGENCY: Fish and Wildlife Service, Interior.

ACTION: Notice of availability.

SUMMARY: This notice advises the public of the availability of the Final Environmental Impact Statement/Environmental Impact Report for the South Bay Salt Ponds Initial Stewardship Plan. The Record of Decision will be signed no sooner than 30 days from this notice.

The U.S. Fish and Wildlife Service and the California Department of Fish and Game plan to manage 15,100 acres of former commercial salt ponds in south San Francisco Bay using an interim strategy while a long-term restoration plan is developed and implemented. This interim strategy, the Initial Stewardship Plan (ISP), would use existing and new water control structures, pursuant to permits, to release any remaining saline pond waters to the Bay and to prevent further salt concentration by circulating waters through the ponds. The ponds are located at the Don Edwards San Francisco Bay National Wildlife Refuge and at the Eden Landing State Ecological Reserve.

DATES: A Record of Decision will occur no sooner than 30 days from the date of publication of this notice. In accordance with NEPA, we have filed the EIS with the Environmental Protection Agency (EPA). Each Friday, EPA publishes a Federal Register notice that lists EISs received during the previous week. The EPA notice officially starts the 30-day review period for these documents. It is the goal of the Fish and Wildlife Service to have the FWS notice published on the same date as the EPA notice. However, if that does not occur, the date of the EPA notice will determine the closing date for the Final EIS.

ADDRESSES: The Final Environmental Impact Statement/ Environmental Impact Report can be viewed at http://www.southbayrestoration.org/documents. Copies of the Final Environmental Impact Statement/Environmental Impact Report are also available for review at the following government offices and libraries:

Government Offices—Don Edwards San Francisco Bay NWR, #1 Marshlands Road, Fremont, CA 94536, (510) 792-0222; Don Edwards San Francisco Bay NWR, Environmental Education Center, 1751 Grand Boulevard, Alviso, CA 95002, (408) 262-5513; California Department of Fish and Game, 7329 Silverado Trail, Napa, CA 94558, (707) 944-5500.

Libraries—Alviso Library, 5050 N. 1st St., Alviso, CA 95002-1060, (408) 263-3626; Hayward Public Library, 835 C St., Hayward, CA 94541-5120, (510) 293-8685; Menlo Park Public Library, 800 Alma Street, Menlo Park, CA 94025-3460, (415) 858-3460; Mountain View Public Library, 585 Franklin St., Mountain View, CA 94041-1998; (650) 903-6335; Union City Library, 34007 Alvarado-Niles Road, Union City, CA 94587-4498; (510) 745-1464.

FOR FURTHER INFORMATION CONTACT: Margaret Kolar, Refuge Complex Manager, San Francisco Bay NWR Complex, P.O. Box 524, Newark, California 94560, (510) 792-0222.

SUPPLEMENTARY INFORMATION:

Background

Pursuant to the National Environmental Policy Act (NEPA), the U.S. Fish and Wildlife Service (Service) prepared a Final Environmental Impact Statement evaluating the impacts of managing the South Bay Salt Ponds in San Francisco Bay under an Initial Stewardship Plan.

On March 6, 2003, the State of California and the United States of America acquired 15,100 acres of commercial salt ponds in South San Francisco Bay from Cargill, Inc. The purpose of the acquisition was to protect, restore and enhance the property for fish and wildlife, as well as to provide opportunities for wildlife-oriented recreation and education. The Final Environmental Impact Statement/Environmental Impact Report (Final EIS/EIR) on the South Bay Salt Ponds Initial Stewardship Plan addresses the interim management of these ponds prior to their long-term restoration.

Under commercial salt production, Cargill managed the South Bay salt ponds as shallow water ponds with various salinity levels. The salinity levels varied both geographically, based on the location of the pond within the system, and temporally, based on seasonal and climatic conditions. Although these ponds were managed for salt production, they provided habitat for many water bird species including waterfowl and shorebirds.

The restoration of the salt ponds is taking place in three independent stages. First, Cargill is reducing the salinity levels in the ponds by moving the saltiest brines to its plant site in Newark, California. After the salinities are reduced to levels that are allowed to be discharged to the Bay, Cargill will no longer manage the ponds for salt production. Management of the Baumberg ponds will be turned over to the California Department of Fish and Game and management of the Alviso ponds and West Bay ponds will be turned over to the U.S. Fish and Wildlife Service.

In the second stage of restoration, the ponds will be managed by the agencies in a manner that provides habitat values while the long-term restoration plan is being developed and implemented. In this Initial Stewardship stage, Bay waters will be circulated through the ponds following installation of water control structures and the existing levees will be maintained for minimum flood protection. The Final EIS/EIR covers only this second stage of restoration, i.e., Initial Stewardship.

The third stage of restoration is the actual long-term restoration of the salt ponds to a mix of tidal marshes, managed ponds and other habitats. The planning process for this long-term restoration has just begun and will include a substantial amount of data collection, studies, modeling efforts, and public involvement. The long-term planning process will include development of a separate EIS/EIR.

Implementation of the long-term restoration plan is expected to be conducted in phases beginning in 5 years, but with some phases extending beyond 20 years. Therefore, some ponds may be managed under the Initial Stewardship Plan for as little as 5 years, while others may require such management for over 20 years.

On March 20, 2003, the Service published a Notice of Intent to prepare an EIS in the Federal Register (68 FR 13721). The purpose was to maintain and enhance, to the extent possible, the biological and physical conditions within the salt ponds for the period after commercial salt production ceased until long-term restoration was implemented. Scoping activities in preparation for the draft EIS/EIR included a public meeting on March 23, 2003 and a meeting with a group of technical experts on April 17, 2003.

On January 23, 3004, the Service published a Notice of Availability of the Draft EIS/EIR in the Federal Register. A public meeting to accept comments on the draft document was held on February 4, 2004 in Fremont, California. In the Draft EIS/EIR, we proposed to circulate Bay waters through reconfigured pond systems and release pond contents to the Bay. This would require installation, replacement or removal of 55 water control structures, breaches or levee fills. We also proposed to manage a limited number of ponds in different manners: as seasonal ponds; as higher salinity ponds; as muted or full tidal ponds; or at different water levels in winter or summer. Project impacts were described in the Draft EIR/EIS.

Development of the Final EIS

The Draft EIS/EIR was jointly developed with the California Department of Fish and Game. Because of differences in notice and comment periods, the Final EIR under the California Environmental Quality Act has already been prepared and issued under a separate cover. However, all comments received by either the Service or the Department of Fish and Game during either the EIR or EIS comment periods, are included and considered in the Final EIS/EIR. A total of 21 comment letters were received from 17 different organizations or individuals. The Final EIS/EIR incorporates all changes or additions to the draft into one complete document.

The analysis provided in the Final EIS/EIR is intended to accomplish the following: inform the public of the proposed action; address public comments received on the Draft EIS/EIR; disclose the direct, indirect, and cumulative environmental effects of the proposed actions; and indicate any irreversible commitment of resources that would result from implementation of the proposed action.

Alternatives Analyzed

The Final EIS/EIR considers four alternatives for Initial Stewardship: a No Action Alternative, a Seasonal Pond Alternative, and two Pond Management alternatives which vary based on the dates for initial release of saline pond waters.

Under the No Action alternative, there would be no flow circulation through the pond systems. Remaining brines would dry through the evaporation process and the ponds would then fill seasonally with rainwater in winter. No new public access would be available. No action would be conducted by the agencies, including no levee maintenance, and some levees would likely fail during this period, which could impact water quality in the Bay, flood protection for adjacent homes and businesses, and existing public access on the levees. The existing open water ponds in South San Francisco Bay would be dry during most of the year which would reduce their value for wildlife.

In Alternative 1, the Seasonal Pond Alternative, there would be no flow circulation through the pond systems. Remaining brines would dry through the evaporation process and the ponds would then fill seasonally with rainwater in winter. No new public access would be available. The only action taken by the agencies would be to maintain the levees at their current standard of maintenance to prevent release of existing brines, to assure continued public access, and to maintain a minimum level of flood control. The existing open water ponds in South San Francisco Bay would be dry during most of the year which would reduce their value for wildlife.

Under the two pond management alternatives, bay waters would be circulated through the ponds, the pond levees would continue to be maintained at the current level, existing public access would continue and the ponds previously kept closed by Cargill would be open to limited public access. The majority of the existing open water ponds would remain in open water habitat throughout the year thereby maintaining important wildlife habitat values. The two action alternatives differ in the timing of the initial release of the existing low to mid salinity brines in the ponds.

In Alternative 2, the Simultaneous March/April Initial Release alternative, the contents of most of the Alviso and Baumberg Ponds would be released simultaneously in March and April. The ponds would be managed as a mix of continuous circulation ponds, seasonal ponds and batch ponds. Higher salinity ponds in Alviso and in the West Bay would be discharged in March and April in later years when salinities in the ponds have been reduced to required levels. The Island Ponds (A-19, 20, and 21) would be breached and open to tidal waters. This alternative would delay implementation of Initial Stewardship for over a year and could impact the ability of the agencies to maintain low salinities needed to meet permit discharge requirements.

In Alternative 3, the Phased Release Alternative, many lower salinity ponds in Alviso and Baumberg would be discharged in July, and medium salinity ponds would be discharged the following March and April. The higher salinity ponds would be discharged in later years and the Island Ponds would be breached as in Alternative 2. The ponds would be managed as in the Simultaneous March/April Release Alternative during the continuous circulation period. Alternative 3, the Phased Release Alternative, is the preferred alternative in the Final EIS/EIR.

This notice is provided pursuant to regulations for implementing the National Environmental Policy Act of 1969 (40 CFR 1506.6).

Dated: March 30, 2004.
David G. Paullin,
Acting Manager, California/Nevada Operations Office.

[FR Doc. 04-7692 Filed 4-8-04; 8:45 am]

BILLING CODE 4310-55-P